NUCLEAR REGULATORY COMMISSION

[Docket Nos. 52-040 and 52-041; NRC-2009-0337]

Combined License Application for Turkey Point Nuclear Plant, Units 6 and 7

AGENCY: Nuclear Regulatory Commission.

ACTION: Draft environmental impact statement; request for comment; reopening of comment period.

SUMMARY: On June 30, 2009, the Florida Power and Light Company (FPL) submitted an application for combined licenses (COL) for two nuclear power reactors, Turkey Point Units 6 and 7, at the Turkey Point site near Homestead, Florida (Application). On March 5, 2015, the U.S. Nuclear Regulatory Commission (NRC) and the U.S. Army Corps of Engineers (USACE), Jacksonville District, issued a Federal Register notice in which the NRC solicited comments on NUREG-2176, “Draft Environmental Impact Statement for Combined Licenses (COLs) for Turkey Point Nuclear Plant, Units 6 and 7,” to support the environmental review of the application. The public comment period closed on May 22, 2015. The NRC has decided to reopen the public comment period to allow more time for members of the public to develop and submit their comments. The reopened comment period will expire on July 17, 2015.

DATES: The comment period for the document published on March 5, 2015 (80 FR 12043), has been reopened. Comments should be filed no later than July 17, 2015. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2009-0337. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Alicia Williamson, telephone: 301-415-1878; email: Alicia.Williamson@nrc.gov or Jennifer Dixon-Herrity, telephone: 301-415-2967; email:Jennifer.Dixon-Herrity@nrc.gov. Both are staff of the Office of New Reactors, U.S. Nuclear Regulatory Commission, Washington, DC 20555-0001.

SUPPLEMENTARY INFORMATION:

I. Obtaining Information and Submitting Comments

A. Obtaining Information

Please refer to Docket ID NRC-2009-0337 when contacting the NRC about the availability of information regarding this action. You may obtain publicly-available information related to this action by the following methods:

• Federal Rulemaking Web site: Go to http://www.regulations.gov and search for Docket ID NRC-2009-0337.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. The draft environmental impact statement (DEIS) is available in ADAMS under Accession Nos. ML15055A103 and ML15055A109.

• NRC's PDR: You may examine and purchase copies of public documents at the NRC's PDR, Room O1-F21, One White Flint North, 11555 Rockville Pike, Rockville, Maryland 20852.

• Project Web site: In addition, the DEIS can be accessed online at the Turkey Point COL specific Web page at http://www.nrc.gov/reactors/new-reactors/col/turkey-point/documents.html.

B. Submitting Comments

Please include Docket ID NRC-2009-0337 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

By letter dated June 30, 2009, FPL submitted the application for COLs for Turkey Point Units 6 and 7, in which it proposed to construct and operate two new nuclear power units at its Turkey Point site near Homestead, Florida. Among other items, the application included an environmental report (ER), which documented FPL's assessment of the environmental impacts of the proposal. The NRC staff published a notice of intent to prepare a DEIS and to conduct a scoping process in the Federal Register on June 15, 2010 (75 FR 33851). On March 5, 2015 (80 FR 12043), the NRC solicited comments on NUREG-2176, “Draft Environmental Impact Statement for Combined Licenses (COLs) for Turkey Point Nuclear Plant, Units 6 and 7,” to support the environmental review for the application. The public comment period closed on May 22, 2015.

The NRC's regulations set a minimum public comment period of 45 days for a draft environmental impact statement, and contemplate reasonable requests for a 15-day extension, if practicable (10 CFR 51.73). In the Federal Register notice announcing the availability of the Turkey Point DEIS, the NRC staff allowed 75 days for public comment, i.e., the NRC staff already included two 15-day extensions to the minimum comment period for the DEIS (80 FR 12043). On May 5, 2015, the USACE forwarded to the NRC staff a request from the Seminole Tribe of Florida (Tribe) to extend the comment period on the DEIS until July 13, 2015. The Tribe requested this additional time in order to formulate comments on the DEIS after the Tribe meets with the USACE and the NRC staff to discuss the DEIS. The meeting is currently scheduled for June 23, 2015. In the peculiar circumstances present here, the Tribe was unable to meet with the USACE and the NRC staff in time to submit comments within the original comment period, i.e., by May 22, 2015. The NRC staff has reviewed the Tribe's request, and considered that the meeting with the Tribe cannot be held until close to the last week of June and that two other Federal agencies have requested to extend the comment period. The NRC staff has determined that the Tribe's requested extension is warranted to allow the Tribe to provide reasoned comments in light of information discussed in the meeting scheduled for June 23, 2015, and is practicable, within the constraints of the NRC staff review schedule for the application. The NRC staff, however, is not limiting the reopened comment period to the Tribe. Accordingly, the NRC has decided to reopen the public comment period on the DEIS (NUREG-2176) until July 17, 2015.

Dated at Rockville, Maryland, this 21st day of May, 2015.
For the Nuclear Regulatory Commission.
Frank M. Akstulewicz,
Director, Division of New Reactor Licensing, Office of New Reactors.

[FR Doc. 2015-12935 Filed 5-27-15; 8:45 am]

BILLING CODE 7590-01-P